FEDERAL MINE SAFETY AND HEALTH REVIEW COMMISSION

Sunshine Act Meetings

TIME AND DATE: 2 p.m., Tuesday, November 12, 2024.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Consol Pennsylvania Coal Co., Docket No. PENN 2021-0084. (Issues include whether the Judge erred in concluding that a missing keeper pin violated 30 CFR 75.1725(a), that the violation was significant and substantial, and that the violation was caused by low negligence, and whether the Judge erred in concluding that the operator's permissibility violation was significant and substantial.)

Any person attending this meeting who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD; Relay/1-800-877-8339 for toll free.

Phone Number for Listening to Meeting: 1-(866) 236-7472. Passcode: 678-100.

Authority: 5 U.S.C. 552b.

Dated: November 1, 2024.
Sarah L. Stewart,
Deputy General Counsel.

[FR Doc. 2024-25857 Filed 11-4-24; 11:15 am]

BILLING CODE 6735-01-P